FEDERAL COMMUNICATIONS COMMISSION

47 CFR Part 11

[PS Docket No. 15-94; FCC-17-170]

Blue Alert EAS Event Code

AGENCY: Federal Communications Commission.

ACTION: Final rule.

SUMMARY: In this document, the Federal Communications Commission (FCC or Commission) amends its regulations governing the Emergency Alert System (EAS) and Wireless Emergency Alerts (WEA) to add a new event code, B-L-U, to allow alert originators to issue an alert whenever a law enforcement officer is injured or killed, missing in connection with his or her official duties, or there is an imminent and credible threat to cause death or serious injury to law enforcement officers.

DATES: This rule is effective January 18, 2018. Delivery of Blue Alerts over EAS will be implemented January 18, 2019. Delivery of Blue Alerts over WEA will be implemented July 18, 2019. This docket will remain open for comments until March 19, 2018.

FOR FURTHER INFORMATION CONTACT: Gregory Cooke, Deputy Division Chief, Policy and Licensing Division, Public Safety and Homeland Security Bureau, at (202) 418-2351, or by email at Gregory.Cooke@fcc.gov; or Linda Pintro, Attorney Advisor, Policy and Licensing Division, Public Safety and Homeland Security Bureau, at (202) 418-7490, or by email at Linda.Pintro@fcc.gov.

SUPPLEMENTARY INFORMATION: This is a summary of the Commission's Order in PS Docket No. 15-94, FCC 17-170, adopted and released on December 14, 2017. The full text of this document is available for inspection and copying during normal business hours in the FCC Reference Center (Room CY-1257), 445 12th Street SW, Washington, DC 20554, or online at: https://www.fcc.gov/document/fcc-adds-blue-alerts-nations-emergency-alert-systems-0.

Synopsis

1. The Order adds to Part 11 EAS rules a new dedicated EAS event code, to advance the important public policy of protecting our nation's law enforcement officials and the communities they serve. This Order adopts the three-character B-L-U to enable the delivery of Blue Alerts over the EAS and WEA. This will promote the development of compatible and integrated Blue Alert plans throughout the United States, consistent with the Rafael Ramos and Wenjian Liu National Blue Alert Act of 2015 (Blue Alert Act), and support the need for a dedicated EAS event code for Blue Alerts identified by the Office of Community Oriented Policing Services (COPS Office) of the United States Department of Justice (DOJ).

I. Background

2. The EAS is a national public warning system through which broadcasters, cable systems, and other service providers (EAS Participants) deliver alerts to the public to warn them of impending emergencies and dangers to life and property. Although the primary purpose of the EAS is to equip the President with the ability to provide immediate information to the public during periods of national emergency, the EAS is also used by the National Weather Service (NWS) and state and local governments to distribute voluntary alerts such as weather-related and child abduction (AMBER) alerts. EAS uses three-character event codes to identify the various elements, so that each can deliver accurate, secure, and geographically-targeted messages to the public, in text crawls and in the audio portion of EAS alerts (e.g., TOR for Tornado).

3. In 2015, Congress enacted the Blue Alert Act to “encourage, enhance, and integrate Blue Alert plans throughout the United States,” thus facilitating the dissemination of information in a consistent manner nationwide when a law enforcement officer is seriously injured, killed or missing in the line of duty. The Blue Alert Act directs the Attorney General to establish a national Blue Alert communications network within DOJ to issue Blue Alerts, using plans that would be adopted in coordination with “States, units of local government, law enforcement agencies, and other appropriate entities.” In September 2016, the Attorney General assigned the COPS Office within DOJ to be the National Blue Alert Coordinator.

4. The COPS Office filed two reports with Congress to demonstrate how it was implementing the Blue Alert Act's mandate. In its 2016 Report to Congress, the COPS Office identified “the need to promote formal communication mechanisms between law enforcement agencies for Blue Alert information, the need for a dedicated Emergency Alert System (EAS) event code, and the need to increase public and law enforcement awareness of the Blue Alert Act.” In its 2017 Report to Congress, the COPS Office noted that it had commenced outreach efforts with the FCC to pursue a dedicated Blue Alert EAS event code, and asked the FCC to consider conducting an expedited rulemaking to the extent feasible.

5. The COPS Office established voluntary guidelines for the issuance of Blue Alerts based on the criteria contained in the Blue Alert Act (Blue Alert Guidelines). The Blue Alert Guidelines identify who may request the issuance of a Blue Alert, when a Blue Alert may be issued, and the requisite content thereof. Specifically, a Blue Alert may be issued only when a request is made by a law enforcement agency having primary jurisdiction over the incident, and one the following three threshold criteria has been met: (1) Death or serious injury of a law enforcement officer in the line of duty; (2) threat to cause death or serious injury to a law enforcement officer; or (3) a law enforcement officer is missing in connection with official duties. If a Blue Alert is based upon the first of the criteria, the law enforcement agency must confirm that a law enforcement officer has been killed, seriously injured, or attacked, and there are indications of death or serious injury. If a Blue Alert is based upon the second of the criteria, the law enforcement agency must confirm that the threat is “imminent and credible,” and at the time of receipt of the threat, any suspect involved is wanted by a law enforcement agency. Finally, if a Blue Alert is based upon the third criteria, the agency must have concluded that there is indication of serious injury to, or death of the missing law enforcement officer. In all cases, the agency must confirm that any suspect involved has not been apprehended and there is sufficient descriptive information of the suspect, including any relevant vehicle and license tag information. The COPS Office also recommends that Blue Alerts be focused on the geographic areas most likely to facilitate the apprehension of the suspect, and the message include the suspect's last known location, direction of travel, and possible destination.

6. On June 22, 2017, the FCC released the Blue Alert NPRM, proposing to revise the EAS rules to adopt BLU to allow the transmission of Blue Alerts to the public over the EAS, satisfying the need articulated by the COPS Office for a dedicated EAS event code to facilitate broader dissemination of the requisite information.

II. Discussion

7. The EAS is an Effective Mechanism to Deliver Blue Alerts. The Order finds—as supported by most commenters—that the EAS is an effective mechanism for the delivery of Blue Alerts. The City of New York (NYC) and the National Association of Broadcasters (NAB) observe that issuing a Blue Alert via the EAS will provide the public with the opportunity to protect themselves and their families and to report relevant information to law enforcement, thus facilitating the apprehension of suspects who are alleged to pose an imminent threat to law enforcement officers. NCTA—The internet & Television Association (NCTA) and the American Cable Association (ACA) agree that adding Blue Alerts to EAS will advance the important public policy of protecting our nation's law enforcement officials, as does the National Public Safety Telecommunications Council (NPSTC), which states that both the EAS and WEA should be available tools to help provide Blue Alerts to the public.

8. The Order also finds that it is technically feasible to send Blue Alerts using the EAS. As NYC and broadcaster engineer Sean Donelan (Donelan) observe, the information required by the Blue Alert Guidelines can be successfully communicated within the two-minute period to which EAS alerts are limited. Similarly, the Commission agrees with the Association of Public-Safety Communications Officials-International, Inc. (APCO) and NYC that EAS Blue Alerts should be focused to an appropriately narrow geographic area, and find that the transmission of EAS alerts satisfies the requirement that a Blue Alert be “limited to the geographic areas most likely to facilitate the apprehension of the suspect involved or which the suspect could reasonably reach” and “[is] not . . . limited to state lines.” The Order disagrees with the assertion of McCarthy Radio Enterprises, Inc. to the contrary. EAS alerts are issued using county-based Federal Information Processing Standards (FIPS) codes, and may be issued to include multiple counties within a state or across state borders, depending on the geographic scope of the emergency prompting the alert. The Commission believes that this level of geographic targeting is consistent with effective delivery of Blue Alerts, given the type of potentially mobile suspect that would be the subject of many Blue Alerts. The Order agrees with Donelan that a suspect's movements in the circumstances that would give rise to a Blue Alert likely would be similar to that of a suspect in AMBER Alert circumstances, where suspects may travel hundreds of miles within a few hours.

9. The Order also agrees with commenters such as NYC that EAS Blue Alerts sent via the Integrated Public Alert and Warning System (IPAWS) can support transmission of the detailed information required by the Blue Alert Guidelines. As the Commission acknowledged in the Blue Alerts NPRM, EAS alerts delivered over IPAWS use the IP-based Common Alerting Protocol (CAP) to deliver alerts with detailed text files, non-English alerts, or other content-rich data that would not be available to EAS alerts delivered via the broadcast-based daisy chain. As NYC and NPSTC note, EAS-based Blue Alerts that provide such detailed information will greatly improve the ability of the public to recognize and avoid an unsafe situation. The Order accordingly urges alert originators to initiate Blue Alerts via IPAWS and recommends that alert originators include detailed information as part of each Blue Alert for which it is available. The Order notes that EAS Participants are required to create video crawls based upon the enhanced text contained within the CAP message. The Order agrees with the COPS Office's recommendation that the last known location, direction of travel, and possible destinations of the suspect be included as part of the alert message. The Commission believes that these steps, in combination with training, will allow Blue Alert originators to address the concerns raised by the Boulder Regional Emergency Telephone Service Authority (BRETSA) and other commenters that frequent, repeated, misused, or overly long alerts can result in recipients “tuning out” alerts and even disabling alerts on their devices.

10. The Commission believes that Blue Alerts delivered via the broadcast EAS continues to be an effective mechanism for the delivery of Blue Alerts. Concerns about the relative value of IPAWS-based, as opposed to daisy chain-based, EAS alerts are not unique to Blue Alerts. For example, AMBER Alerts are subject to the same technical limitations, potentially providing the public with an alert from the daisy chain that lacks the descriptive information about the victim that an IPAWS-based alert would provide. The Order agrees with commenters that concerns that arise from these technical limitations are mitigated because the public is likely to learn adequate information about an emergency and, as needed, check other media for additional information after receiving an alert. Further, EAS messages delivered via the broadcast daisy chain can supply life-saving information and may act as a source of redundancy for portions of the EAS that draw on the advanced capability of CAP. Accordingly, the Order concludes that the mere fact of any discrepancy between the information provided by an IPAWS-based EAS Blue Alert and a broadcast-based EAS Blue Alert is not sufficient reason to deny potentially life-saving information to all members of the public.

11. Nonetheless, the Order encourages EAS manufacturers and EAS Participants to take technical steps to facilitate the delivery of IPAWS-based EAS Blue Alerts to the public where an alert is first delivered to an EAS Participant via broadcast. The Order notes that Monroe Electronics, Inc. (Monroe) and other commenters propose that the Commission permit “triggered CAP polling,” by which the EAS device would automatically poll IPAWS upon receipt of a broadcast EAS message to verify whether a corresponding CAP message exists, and if it does, use the CAP message instead of the broadcast EAS message. The part 11 EAS rules do not bar EAS Participants from triggered CAP polling.¹ Because triggered CAP polling is estimated to require a “few seconds” to complete, the Order finds that its use in these instances is consistent with Section 11.51(n) of the EAS rules, which allows EAS Participants to employ a delay of up to 15 minutes before interrupting their programming and retransmitting EAS voluntary event codes.

12. A Dedicated Blue Alert EAS Event Code is in the Public Interest. The Commission determined that it would serve the public interest and promote the purpose of the Blue Alert Act to adopt a dedicated EAS event code for Blue Alerts. Accordingly, the Order amends Section 11.31(e) of the EAS rules to create and add the dedicated BLU event code to the EAS Protocol for Blue Alerts. The Commission agrees with the COPS Office that a dedicated EAS event code would “convey the appropriate sense of urgency” and “galvanize the public awareness necessary to protect law enforcement officers and the public from extremely dangerous offenders.” The Commission also agrees with the COPS Office that no existing EAS event code is adequate or acceptable to accomplish the objectives of the Blue Alert Act.

13. The conclusion in the Order is supported by the NPSTC and others that agree that a dedicated BLU event code is well suited to serve as the central organizing element for Blue Alert plans nationally. As APCO notes, a dedicated code would facilitate consistent operations and terminology within the National Blue Alert Network, as called for by the Blue Alert Act. Similarly, NYC and NAB agree that establishing this dedicated EAS event code to deliver Blue Alerts would help facilitate the delivery of Blue Alerts to the public in a uniform and consistent manner. The Commission also agrees with NYC that a dedicated code would lead state and local alert originators to engage relevant stakeholders to operationalize the steps necessary to issue a Blue Alert.

14. Further, the Commission is persuaded by the COPS Office that an EAS event code solely dedicated to Blue Alerts would “facilitate and streamline the adoption of new Blue Alert plans throughout the nation and would help to integrate existing plans into a coordinated national framework.” The recommendation by the COPS Office is supported by its extensive outreach to U.S. States and territories. According to the COPS Office, twenty-eight states operate Blue Alert systems, and twenty-eight states and territories do not. In its 2017 Report to Congress, the COPS Office noted the inconsistency of plans from state to state and the negative consequences that have arisen as a result. Specifically, according to the 2017 Report to Congress, “the lack of such a resource [i.e., a dedicated EAS event code] affected jurisdictions' ability to communicate within states and across the country. Even in states with established Blue Alert plans, it was often difficult to identify important points of contact necessary for alert activation or interstate coordination.” The Commission thus agrees with the COPS Office that implementation of a dedicated Blue Alert EAS code could ease the burden of designing a consistent model for Blue Alert plans, and thus encourage states that do not have Blue Alert plans to establish one.

15. The Order also concludes that the three-character BLU EAS event code, rather than a currently existing EAS code, would help ensure that both Blue Alerts and related outreach and training are undertaken in a consistent manner nationally. The Commission agrees with NYC that using the BLU code would allow for pre-scripted, standardized on-screen text that is more descriptive than the existing categories, and would serve to socialize the Blue Alert concept with the public, much like the AMBER Alerts have done for years. The Commission is also persuaded that a dedicated event code with consistent national standards would allow Federal, state, and local authorities to create consistent training programs for alert originators, as well as public service announcements, ad campaigns, and informational material that would serve to educate the public ahead of time.

16. The Order disagrees with commenters that Blue Alerts should extend beyond law enforcement officers to include all uniformed first responders, including firefighters and paramedics. The stated purpose of the Blue Alert Act is to “encourage, enhance, and integrate Blue Alert plans throughout the United States to disseminate information when a law enforcement officer is seriously injured or killed in the line of duty, is missing in connection with the officer's official duties, or an imminent and credible threat that an individual intends to cause the serious injury or death of a law enforcement officer is received.” The Commission agrees with the COPS Office that Commission action should not extend beyond the Congressional mandate by including parties other than law enforcement officers. Such action would fall outside the scope of the Blue Alert Act, which limits Blue Alerts to a “law enforcement officer.”

17. Similarly, the Order finds that existing EAS codes LEW (Law Enforcement Warning), LAE (Local Area Emergency), and CEM (Civil Emergency Message) would not be as effective as a BLU event code. The Commission agrees with the COPS Office that the absence of a dedicated BLU event code requires states and local law enforcement agencies to use one of the existing generic event codes in an ad hoc manner and that existing event codes such as LEW are inadequate. NAB also notes that there is confusion about the true nature or severity of an emergency when LEW is used. The record supports the conclusion by the COPS Office that there is a lack of urgency associated with the existing LEW, LAE and CEM event codes because they are sometimes used for matters that do not suggest the need for immediate action. For example, the COPS Office observes that LEW alerts address a broad array of matters including police activity, weather-related incidents, road hazards, missing persons, and other miscellaneous alerts. Similarly, LAE and CEM alerts are more varied than LEW, as they additionally include alerts addressing utility issues and fire hazards. The Order does not address the efficacy of such multiple uses for LEW, LAE, and CEM, but do agree with the COPS Office that the broad use of these event codes make them inappropriate for use as the Blue Alert event code. The Commission agrees with the COPS Office that using LEW, LAE, or CEM for Blue Alerts would create confusion, as instructions for different situations can be contradictory and the public would not know what kind of action to take based on the event code alone. As the Commission found in the NWS Report and Order proceeding, the public interest is not served by relying on inadequate warnings that might provide incorrect or even opposite remedial advice to the public. The Order finds that Blue Alerts have a purpose that is sufficiently unique and well defined (as compared to the circumstances that have prompted the use of other codes) to warrant a unique dedicated BLU event code, which could serve as a vital tool” for “protect[ing] law enforcement officers and the communities they serve.”

18. WEA Delivery of Blue Alerts. Although the COPS Office limited its request to an EAS event code for Blue Alerts, Blue Alerts are also capable of delivery over WEA as that system is currently configured. Moreover, incidents that qualify for the initiation of a Blue Alert under the Blue Alert Guidelines would also satisfy the minimum requirements for initiation of an “Imminent Threat” Alert via WEA. Accordingly, the Order permits Blue Alerts to be deployed via WEA using existing alerting methodologies and consistent with our WEA rules.

19. NYC suggests that Blue Alerts use the Imminent Threat Alert classification only as a temporary measure until such time that a dedicated WEA message classification for Blue Alerts can be developed and deployed. NYC is concerned that the existing pre-scripted text for Imminent Threat Alert is “overly vague,” lacks capabilities for “alert originators entering free form text” or “Blue Alert-specific pre-scripted text,” and “can lead to public confusion and/or panic.” Although NYC's concerns are somewhat mitigated by the evidence in the record that alert originators can use message “templates” that could be used for different Blue Alert scenarios, the Commission believes the issue merits further study. The Commission sought comment in the Blue Alert NPRM on the extent to which additional guidance or direction would be helpful regarding how Blue Alerts should be classified for purposes of WEA. Although the Commission declines to adopt a separate classification for WEA Blue Alerts at this time, the Order leaves this aspect of the issue teed up in the Blue Alert NPRM pending, and keeps the above-captioned docket open, to help gather additional information on this issue beyond what the record currently contains, including further comment from those interested on potential implementation steps, time frame, and costs, until sixty days after the date of publication of this Order in the Federal Register. In the meantime, the Order finds that issuance of Blue Alerts using WEA's existing standards and structures at least as a temporary measure will be effective, will reduce the necessary time for Blue Alerts to become available on WEA, and will reduce the costs to WEA stakeholders.

20. Implementation Schedule. In the Blue Alert NPRM, the Commission sought comment on the proposal that EAS equipment manufacturers should integrate the Blue Alert event code into equipment yet to be manufactured or sold, and make necessary software upgrades available to EAS Participants, no later than six months from the effective date of the final rule. This proposal was based on the Commission's experience with the NWS Report and Order proceeding, in which the Commission required a similar schedule for implementation of severe weather-related EAS event codes. In the Blue Alert NPRM, the Commission likewise noted that adding a BLU EAS event code would trigger technical and public safety requirements regarding equipment readiness that were similar to those discussed in the NWS Report and Order proceeding.

21. The Order encourages stakeholders to work together voluntarily to implement Blue Alerts as swiftly as possible in light of the important public safety objectives involved. The Commission recognizes, however, the record reflects that some time is necessary for equipment manufacturers and Participating Commercial Mobile Service (CMS) Providers to prepare their equipment and networks to be able to process any Blue Alerts that are sent over EAS and WEA, as well as for alert originators, EAS Participants, and other stakeholders to have the necessary training and resources to deliver Blue Alerts to the public if they choose to do so. Accordingly, the Order allows a period of 12 months from the effective date of this rule to enable the delivery of Blue Alerts over EAS, and a period of 18 months from the effective date of this rule to enable the delivery of Blue Alerts over WEA. This implementation schedule will ensure all stakeholders have sufficient time to address any technical, resource, and training needs they may require to ensure the successful delivery of Blue Alerts.

22. Although NYC states that six months is sufficient time for EAS equipment manufacturers to release the necessary software upgrades for a dedicated Blue Alert event code, other commenters suggest more time is warranted for implementation of Blue Alerts for both EAS and WEA. NCTA states that the Commission should work with EAS manufacturers to determine the adequacy of the time allocated for software upgrades to equipment. EAS equipment manufacturers Monroe and Sage Alerting Systems (Sage) state that 12 months is sufficient to allow for the new event code to be deployed within a scheduled in-version equipment software update, resulting in no incremental cost to EAS Participants, rather than as a scheduled major version upgrade that would have to be separately purchased. Broadcaster Adrienne Abbott (Abbott) states that EAS stakeholders have additional needs that must be met to ensure the successful delivery of Blue Alerts (e.g., the updating of EAS Plans to accommodate the use of the new code, time for Councils of Governments (COGs) to add the Blue Alert Event Code to their list of approved codes, and public awareness campaigns to be conducted to raise awareness and understanding of Blue Alerts). The record, however, does not support Abbott's contention that this entire process will require two years to complete. For the reasons described in this Order and the earlier NWS Report and Order, the Commission's experience tells us that this process can occur in parallel with the development and deployment of EAS equipment software updates and can be accommodated within a 12-month period. Participating CMS Providers have requested 18 months to complete the incorporation of pending standards into their networks and devices that will enable the delivery of Blue Alerts as Imminent Threats over WEA, such as modification of the “C-interface,” the secure interface that exists between IPAWS and commercial mobile service provider gateways. In connection, NYC acknowledges that “a longer implementation timeframe is likely necessary for the wireless industry.” Based on the record, the Commission believes that a 12-month implementation period for EAS and an 18-month implementation period for WEA will provide all stakeholders adequate time to ensure that the necessary equipment upgrades, software updates, development, and testing are completed to enable the delivery of Blue Alerts over EAS and WEA as contemplated by this Order.

23. The Blue Alert NPRM proposed to allow EAS Participants to upgrade their equipment to add a designated Blue Alert event code on a voluntary basis until their equipment is replaced, which is the same approach the Commission has taken when it has adopted other new EAS event codes in the past. The Order adopts a modified version of this proposal and permit EAS Participants to update their software to add the BLU event code on a voluntary basis. All EAS Participants should be able to add the BLU event code using a software upgrade because, as of July 30, 2016, all EAS Participants should have equipment in place that is capable, at the minimum, of being upgraded by software to accommodate EAS modifications, and thus, the need to upgrade existing equipment no longer appears to be necessary. The Order also agrees with NCTA that permitting software upgrades on a voluntary basis is a “sensible and effective” approach to adopting a new event code, and with ACA, which notes that this approach “appropriately balances the public's interest in the safety and well-being of law enforcement officials against the costs of implementing new EAS codes.” The Order disagrees with the NYC argument that allowing EAS Participants to upgrade their software on a voluntary basis undermines the creation of a cohesive national Blue Alert system. As the Commission observed in the NWS Report and Order, the use by EAS Participants of these codes is and has always been voluntary, and “it would be contrary to the voluntary nature of state and local EAS to mandate upgrades to existing EAS equipment to incorporate new optional event codes.” As the Order discusses below, the Commission also finds that this approach will significantly reduce the costs to EAS Participants.

24. Cost and Benefit Analysis. The Order concludes that the benefits of implementing BLU outweigh its cost. The Commission acknowledges as it did in the Blue Alert NPRM, the COPS Office's guidance and expertise regarding the potential benefits of Blue Alerts. The Order also draws on the Commission's experience with the implementation of new EAS codes. The Order finds that most of the potential costs of implementation arise from software updates made outside of the normal course of planned upgrades. The Order allows sufficient time and flexibility to allow manufacturers and EAS Participants make upgrades, and to conduct associated testing in tandem with general software upgrades installed during the regular course of business, thus minimizing costs. The rule adopted in the Order presents many potential benefits by keeping the public informed, out of harm's way, and enlisting their aid to more quickly apprehend dangerous suspects as well as reducing the cost for 911 call centers and emergency responders.

25. Costs. The Order finds, as suggested in the Blue Alert NPRM, that the main cost to EAS Participants that elect to install BLU will be the cost involved in downloading the software updates into their devices, and conducting associated testing. The Blue Alert NPRM found that adopting a Blue Alert EAS event code presents similar technical issues to those raised in the NWS Report and Order, and, accordingly, tentatively concluded that the costs for adding a dedicated Blue Alert EAS event code would not exceed a one-time $3.5 million implementation ceiling. In the NWS Report and Order proceeding, Monroe Electronics indicated that the new event codes could be implemented through a software update downloaded from its website, while Sage Alerting Systems indicated that end users could implement event codes in 10 minutes or less, at no cost other than labor. The NWS Report and Order used a worst-case cost figure of $125.00 per device, allowing five hours of labor to be spent by each of the 28,058 broadcasters and cable companies, resulting in a cost ceiling of $3.5 million. The Order adopts the Commission's tentative conclusion in the Blue Alert NPRM, and find that a dedicated Blue Alert EAS event code would not exceed a one-time $3.5 million implementation cost. The Order notes that EAS Participants can avoid most incremental implementation costs by downloading the new Blue Alert code in conjunction with a scheduled software update. Although the Order recognizes that EAS equipment manufacturers will incur some costs in making the new event code available to all EAS Participants, the Commission believes that 12 months will provide sufficient time to dovetail the BLU upgrade with other scheduled upgrades, posing minimal expense to equipment manufacturers. The Commission believes that the costs for implementation of WEA will be similarly low, because Blue Alerts will be delivered over the existing Imminent Threat WEA classification, using WEA in its current configuration. As such, the Commission believes there will be no incremental costs associated with the delivery of Blue Alerts over WEA, and that the 18 months granted in the Order to Participating CMS Providers is sufficient to allow providers to minimize the costs of deployment.

26. Benefits. The Order anticipate that establishing the BLU event code will improve emergency alerting during events described in the Blue Alert Guidelines, thereby helping to keep people safe from harm. The Order agrees with the COPS Office that existing codes, such as LEW, cannot effectively identify Blue Alerts to the public. While precise numerical estimation is not possible, the Commission expects that the BLU event code will improve public safety by saving lives and preventing injuries. One way of measuring the value of lives saved is the value of a statistical life (VSL), currently estimated at $9.6 million. Accordingly, if the BLU code is expected to save at least one life, its value would be at least $9.6 million, which far exceeds the one-time $3.5 million implementation cost ceiling. This expected benefit is consistent with statistics from the Federal Bureau of Investigation's Uniform Crime Reporting Program, which state that 66 officers were killed in the line of duty in 2016. The Commission believes that at least some portion of these crimes would have qualified for a Blue Alert and could have led to lives saved, quicker apprehension of the suspect, or both. The Order notes the success of AMBER Alerts, where 43 out of the 179 abducted children reported in 2017 were saved as a direct result of AMBER Alerts. It is reasonable to expect that the life of at least one police officer or other member of the public will be saved due to the issuance of an EAS Blue Alert that uses the BLU event code. Injury prevention is another benefit of the BLU event code. The value of injury prevention provides an independent, quantitative metric to express the minimum benefit our rules could produce. Like fatalities, it is difficult to predict the specific number of injuries that the BLU event code will prevent. However, according to the Department of Transportation, nonfatal injuries are far more common than fatalities, and vary widely in severity, as well as probability. Accordingly, the Commission reasons that the public benefit of the rule adopted in this Order is heightened by its role in preventing injuries.

27. The establishment of a dedicated Blue Alert code will also provide the benefit of generating assistance from the public and cost savings for emergency responders. According to NYC, threats and/or violent crimes, including those covered by Blue Alerts, have an economic impact on jurisdictions that should be counted among the benefits of Blue Alerts. Blue Alerts can provide an immediate warning to the public in an area where an extremely dangerous suspect is thought to be. As the Commission noted in the WEA Report and Order and FNPRM, when people can avert situations where they need emergency assistance and therefore do not need to call 911, Public Safety Answering Points are able to avert the cost of resource deployment. NYC also argues that Blue Alerts will help major visitor destinations like NYC provide information to and elicit support from non-residents. The Commission agrees with the COPS Office, that the public has repeatedly played a critical role in assisting law enforcement in maintaining safety; but to assist and avoid danger, the public must be informed. According to the COPS Office, there are clear and significant differences between states' handling of Blue Alerts, which could limit or complicate coordination efforts when a suspect flees, or is thought to have fled, to another jurisdiction. The Commission agrees with the COPS Office that widespread, uniform adoption of the BLU event code, would arm law enforcement officers with the information necessary to rapidly apprehend those who remain a threat to law enforcement and our communities. The Commission concludes that the minor burdens associated with adopting the BLU code will be more than offset by its benefits.

III. Procedural Matters

A. Accessible Formats

28. To request materials in accessible formats for people with disabilities (Braille, large print, electronic files, audio format), send an email to fcc504@fcc.gov or call the Consumer & Governmental Affairs Bureau at 202-418-0530 (voice), 202-418-0432 (TTY).

B. Final Regulatory Flexibility Act Analysis

29. Pursuant to the Regulatory Flexibility Act of 1980, as amended (RFA), see 5 U.S.C. 603, an Initial Regulatory Flexibility Analysis (IRFA) was included in the NPRM in PS Docket No. 15-94. The Commission sought written comment on the proposals in this docket, including comment on the IRFA. This Final Regulatory Flexibility Analysis conforms to the RFA.

C. Paperwork Reduction Analysis

30. This document does not contain proposed information collection(s) subject to the Paperwork Reduction Act of 1995 (PRA), Public Law 104-13. Therefore, it also does not contain any new or modified information collection burden for small business concerns with fewer than 25 employees, pursuant to the Small Business Paperwork Relief Act of 2002, Public Law 107-198, see 44 U.S.C. 3506(c)(4).

D. Congressional Review Act

31. The Commission will send a copy of this Order in a report to be sent to Congress and the Government Accountability Office pursuant to the Congressional Review Act, see 5 U.S.C. 801(a)(1)(A).

IV. Ordering Clauses

32. Accordingly, it is ordered that pursuant to sections 1, 4(i), 4(o), 303(r), 624(g), and 706 of the Communications Act of 1934, as amended, 47 U.S.C. 151, 154(i), 154(o), 303(r), 544(g), 606, as well as by sections 602(a),(b),(c), (f), 603, 604 and 606 of the Warning, Alert and Response Network Act, 47 U.S.C. 1202(a),(b),(c), (f), 1203, 1204 and 1206, that this Order is adopted.

33. It is further ordered that the Commission's rules are hereby amended as set forth in Appendix A of the full Order.

34. It is further ordered that the rules and requirements adopted herein, including at Appendix A of the full Order, to enable the delivery of Blue Alerts over EAS will be implemented January 18, 2019.

35. It is further ordered that the rules and requirements adopted herein, including at Appendix A of the full Order, to enable the delivery of Blue Alerts over WEA will be implemented July 18, 2019.

List of Subjects in 47 CFR Part 11

Radio, Television.

Federal Communications Commission.
Marlene H. Dortch,
Secretary, Office of the Secretary.

Final Rules

For the reasons discussed in the preamble, the Federal Communications Commission amends 47 CFR part 11 as follows:

PART 11—EMERGENCY ALERT SYSTEM (EAS)

1. The authority citation for part 11 continues to read as follows:

Authority: 47 U.S.C. 151, 154 (i) and (o), 303(r), 544(g) and 606.

2. Amend § 11.31 by:

a. In the table in paragraph (e), adding an entry under “State and Local Codes (Optional)” for “Blue Alert”, and

b. Removing the first paragraph (f).

The addition reads as follows:

§ 11.31 EAS protocol.

* * * * *

(e) The following Event (EEE) codes are presently authorized:

Nature of activation | Event codes
* * * * *
State and Local Codes (Optional): |
* * * * *
Blue Alert | BLU.
* * * * *

* * * * *

[FR Doc. 2018-00595 Filed 1-17-18; 8:45 am]

BILLING CODE 6712-01-P3